DEPARTMENT OF JUSTICE

Notice of Lodging of Consent Decree Under The Clean Air Act, Resource Conservation and Recovery Act, And Clean Water Act

Consistent with 28 CFR 50.7, notice is hereby given that on December 2, 2004, a proposed consent decree (“decree”) in United States v. AK Steel Corporation, Civil Action No. 04-1833, was lodged with the United States District Court for the Western District of Pennsylvania.

In this action, the United States seeks civil penalties and injunctive relief against AK Steel Corporation (“AK Steel”) for violations under Section 3008(a)(1) of the Resource Conservation and Recovery Act, 42 U.S.C. 6928(a)(1), Section 113(a)(3) of the Clean Air Act, 42 U.S.C. 7413(a)(3); and Section 309(b) of the Clean Water Act, 42 U.S.C. 1319(b) at its Butler Works facility in Butler County, Pennsylvania. The proposed consent decree provides that AK Steel will pay a civil penalty and perform three different Supplemental Environmental Projects (“SEPs”) in mitigation of a portion of the penalty, for a total package valued at $1.2 million. AK Steel will pay $300,000 by electronic funds transfer, and perform the following SEPs: (1) NOX Reduction SEP; (2) CFC Unit Conversions SEP; and (3) Refrigerant Recycling Program in Butler County, Pennsylvania.

The Department of Justice will receive for a period of thirty (30) days from the date of this publication comments relating to the decree. Comments should be addressed to the Assistant Attorney General, Environment and Natural Resources Division, P.O. Box 7611, U.S. Department of Justice, Washington, DC 20044-7611, and should refer to United States v. AK Steel Corporation, D.J. Ref. 90-7-1-07684.

The decree may be examined at the Office of the United States Attorney, U.S. Post Office & Courthouse, 700 Grant Street, Suite 400, Pittsburgh, PA 15219, and at the U.S. Environmental Protection Agency-Region III, 1650 Arch Street, Philadelphia, PA 19103. During the public comment period, the decree may also be examined on the following Department of Justice Web site, http://www.usdoj.gov/enrd/open.html. A copy of the decree may also be obtained by mail from the Consent Decree library, P.O. Box 7611, U.S. Department of Justice, Washington, DC 20044-7611 or by faxing or e-mailing a request to Tonia Fleetwood tonia.fleetwood@usdoj.gov, fax no. (202) 514-0097, phone confirmation number (202) 514-1547. In requesting a copy from the Consent Decree Library, Please enclose a check in the amount of $18.25 (25 cents per page reproduction cost) payable to the U.S. Treasury.

Robert Brook,
Assistant Chief, Environmental Enforcement Section, Environment and Natural Resources Division.

[FR Doc. 04-27152 Filed 12-9-04; 8:45 am]

BILLING CODE 4410-15-M